DEPARTMENT OF COMMERCE

International Trade Administration

8th Annual U.S. Industry Program at the International Atomic Energy Agency (IAEA) General Conference

AGENCY: International Trade Administration (/ITA), Department of Commerce (DOC).

ACTION: Notice

Mission Description

The United States Department of Commerce's (DOC) International Trade Administration (ITA), with participation from the U.S. Departments of Energy and State, is organizing the 8th Annual U.S. Industry Program at the International Atomic Energy Agency (IAEA) General Conference, to be held September 13-16, 2015, in Vienna, Austria. The IAEA General Conference is the premier global meeting of civil nuclear policymakers and typically attracts senior officials and industry representatives from all 162 Member States. The U.S. Industry Program is part of the Department of Commerce-led Civil Nuclear Trade Initiative, a U.S. Government effort to help U.S. civil nuclear companies identify and capitalize on commercial civil nuclear opportunities around the world. The purpose of the program is to help the U.S. nuclear industry promote its services and technologies to an international audience, including senior energy policymakers from current and emerging markets as well as IAEA staff.

Representatives of U.S. companies from across the U.S. civil nuclear supply chain are eligible to participate. In addition, organizations providing related services to the industry, such as universities, research institutions, and U.S. civil nuclear trade associations, are eligible for participation. The mission will help U.S. participants gain market insights, make industry contacts, solidify business strategies, and identify or advance specific projects with the goal of increasing U.S. civil nuclear exports to a wide variety of countries interested in nuclear energy.

The schedule includes: (1) Meetings with foreign delegations; (2) briefings from senior U.S. Government officials and IAEA staff on important civil nuclear topics including regulatory, technology and standards issues; liability, public acceptance, export controls, financing, infrastructure development, and R&D cooperation; and (3) networking events. Past U.S. Industry Programs have included participation by the U.S. Secretary of Energy, the Chairman of the U.S. Nuclear Regulatory Commission (NRC) and senior U.S. Government officials from the Departments of Commerce, Energy, State, the U.S. Export-Import Bank and the National Security Council.

There are significant opportunities for U.S. businesses in the global civil nuclear energy market. With 174 nuclear plant projects planned in 30 countries over the next 8-10 years, this translates to a market demand for equipment and services totaling $500-740 billion over the next ten years. This mission contributes to the President's National Export Initiative NEXT (http://www.trade.gov/neinext) and DOC's Civil Nuclear Trade Initiative (http://export.gov/civilnuclear), by assisting U.S. businesses in entering or expanding in international markets, and enhancing opportunities for U.S. exports.

Mission Setting

The IAEA General Conference is the premier global meeting of civil nuclear policymakers, and typically attracts over 1,200 senior officials and industry representatives from all 162 IAEA Member States. As such, it is an opportunity to highlight the breadth and depth of the U.S. civil nuclear sector to foreign energy policymakers and potential customers. The U.S. Industry Program will provide opportunities for U.S. industry representatives to meet with U.S. Government and IAEA officials and discuss key issues of interest for civil nuclear exporters. The program will also feature exclusive briefings from foreign government representatives, providing opportunities for participants to develop contacts in potential export markets. Past U.S. Industry Programs have included participation from U.S. companies and organizations from across the U.S. civil nuclear supply chain, including large reactor and small modular reactor (SMR) designers; component manufacturers; engineering, procurement, and construction firms; civil nuclear program management providers; advisory services firms; fuel cycle service providers (including uranium enrichment); National Laboratories; and industry trade associations and professional organizations.

Mission Goals

The purpose of the U.S. Industry Program is to highlight the benefits of U.S. civil nuclear technology to foreign decision makers in key export markets and to enable representatives from the U.S. public and private sector to discuss U.S. industry's role in the safe and secure expansion of civil nuclear power worldwide. U.S. participants will also have the opportunity to network and build relationships in the global civil nuclear sector, interact with foreign government and industry officials, and learn more about current and future project opportunities. Foreign government participants will hear about the expertise that the U.S. industry has amassed in this sector and may learn how to better partner with U.S. industry on future nuclear power projects, thus potentially leading to increased U.S. exports. Participants will also be able to schedule one-on-one meetings with visiting ITA staff from key markets to learn about export opportunities and how to identify potential buyers, agents and distributors in those markets.

Mission Scenario

Prior to the start of the IAEA General Conference, on September 13, trade mission participants can attend a welcome reception hosted by ITA officials. Monday, September 14, will begin with a Policymaker's Roundtable and an interagency U.S. Government briefing featuring discussion sessions and remarks by senior officials from the U.S. Departments of Commerce, Energy and State, the NRC, and the National Security Council. Participants will receive invitations to the IAEA Director General's Reception and the U.S. Mission to the IAEA Reception, offering further opportunities for networking. Tuesday, September 15, will feature panel discussions with U.S. government officials, industry representatives, and other experts that will focus on relevant nuclear issues. On Tuesday evening, a special reception for Industry Program participants and invited foreign government officials will be held. In addition, on Monday, Tuesday, and Wednesday, meetings with foreign delegation officials from some of the top markets for U.S. civil nuclear exports will be scheduled. Approximately ten such meetings will be planned throughout the duration of the event.

Participants will have access to the catered America lounge which includes meeting space. In addition, the U.S. Government will support an exhibit within the IAEA General Conference venue to showcase U.S. nuclear energy policies, programs, technology and services, where participating organizations will have the option to provide company literature that will be integrated into the exhibit. The U.S. exhibit will be staffed by DOC staff throughout the conference. Exhibit staff will be instructed to note interest on the part of country delegates and pass those contacts on to program participants. The exhibit will also serve as a meeting-point for U.S. company representatives at the conference.

Mission Dates and Proposed Agenda

****Note that specific events and meeting times have yet to be confirmed****

Sunday, September 13

6:00-8:00 p.m. U.S. Industry Delegation Welcome Reception and Program Orientation/Major Nuclear Markets Overview

Monday, September 14

7:45 a.m. Industry Program breakfast meeting begins

8:10-9:45 a.m. U.S. Policymakers Roundtable

9:45-10:00 a.m. Break

10:00-11:00 a.m. USG Dialogue with Industry

11:00 a.m.-6:00 p.m. IAEA Side Events

12:00 p.m.-12:30 p.m. Break

12:30-2:00 p.m. Industry Program Meetings: One-on-one meetings with ITA Commercial Service staff and Ex-Im Bank staff over lunch

2:00-3:00 p.m. Secretary of Energy visits U.S. Exhibit

3:00-6:00 p.m. Country & IAEA Briefings for Industry Delegation (foreign delegates & IAEA staff)

6:30-7:30 p.m. IAEA Director General Reception

7:30-9:30 p.m. U.S. Mission to the IAEA Reception

Tuesday, September 15

9:00-11:00 a.m. USG/Industry Roundtable briefings

11:00 a.m.-6:00 p.m. Country & IAEA Briefings for Industry (presented by foreign delegates & IAEA staff)

10:00 a.m.-6:00 p.m. IAEA Side Event Meetings

6:00-8:00 p.m. U.S. Industry Reception (America Lounge)

Wednesday, September 16

10:00 a.m.-3:00 p.m. Country & IAEA Briefings for Industry (presented by foreign delegates & IAEA staff)

10:00 a.m.-6:00 p.m. IAEA Side Events

Participation Requirements

U.S. companies, U.S. trade associations, and U.S. academic and research institutions interested in participating in the trade mission must complete and submit an application package for consideration by the DOC. All applicants will be evaluated on their ability to meet certain conditions and best satisfy the selection criteria as outlined below. Applications will be reviewed on a rolling basis in the order that they are received. A minimum of 15 and maximum of 50 companies and/or trade associations and/or U.S. academic and research institutions will be selected to participate in the mission from the applicant pool.

Fees and Expenses

After a company or organization has been selected to participate on the mission, a payment to the DOC in the form of a participation fee is required. Participants will be able to take advantage of U.S. Embassy rates for hotel rooms.

• The fee to participate in the event is $3,300 for a large, small or medium-sized company (SME), a trade association, or a U.S. university or research institution. The fee for each additional representative (large company, trade association, university/research institution, or SME) is $2,200.

Exclusions

The mission fee does not include any personal travel expenses such as lodging, most meals, local ground transportation, except as stated in the proposed agenda, and air transportation from the United States to the mission site and return to the United States.

Sponsorship Opportunities

In order to afford interested companies with the opportunity to define a higher profile during the program, we are offering a number of marketing partnership opportunities for the program. More information about these opportunities will be posted online soon.

Conditions for Participation

Applicants must submit a completed mission application signed by a company, trade association, or academic or research institution official, together with supplemental application materials, including adequate information on the organization's products and/or services, primary market objectives, and goals for participation. If the DOC receives an incomplete application, the DOC may reject the application, request additional information, or take the lack of information into account in its evaluation.

Each applicant also must certify that the products or services it seeks to export through the mission are either produced in the United States, or, if not, marketed under the name of a U.S. firm and have demonstrable U.S. content as a percentage of the value of the finished product or service. In the case of a trade association, the applicant must certify that, for each company to be represented by the trade association or trade organization, the products and services the represented company seeks to export are either produced in the United States, or, if not, marketed under the name of a U.S. firm and have demonstrable U.S. content. In the case of an academic or research institution, the applicant must certify that as part of its activities at the event, it will represent the interests of constituents that meet the criteria above.

Applicants from a company, organization or institution that is majority owned or controlled by a foreign government entity will not be considered for participation in the U.S. Industry Program.

Selection Criteria

Selection will be based on the following criteria:

• Suitability of the company's (or, in the case of another organization, represented companies' or constituents') products or services to each of the markets the company or organization has expressed an interest in exporting to as part of this trade mission.

• The company's (or, in the case of another organization, represented companies' or constituents') potential for business in each of the markets the company or organization has expressed an interest in exporting to as part of this trade mission, including likelihood of exports resulting from the mission.

• Consistency of the applicant company's (or, in the case of another organization, represented companies' or constituents') goals and objectives with the stated mission scope.

Diversity of company size, sector or subsector, and location also may be considered in the review process. Referrals from political organizations and any documents containing references to partisan political activities (including political contributions) will be removed from an applicant's submission and will not be considered.

Timeframe for Recruitment and Participation

Recruitment for participation in the U.S. Industry Program as a representative of the U.S. nuclear industry will be conducted in an open and public manner, including publication in the Federal Register, posting on the DOC trade mission calendar, notices to industry trade associations and other multiplier groups. Recruitment will begin 2 weeks after publication in the Federal Register and conclude no later than June 26, 2015. The ITA will review applications and make selection decisions on a rolling basis. Applications received after June 26, 2015, will be considered only if space and scheduling permit.

Contacts

Jonathan Chesebro, Industry & Analysis, Office of Energy and Environmental Industries, Washington, DC, Tel: (202) 482-1297, Email: jonathan.chesebro@trade.gov

Marta Haustein, Embassy of the United States of America, U.S. Commercial Service, Vienna, Austria, Tel: +43(0) 1 313 39 2205, Email: marta.haustein@trade.gov

Ryan Russell, U.S. Commercial Service, Pittsburgh, PA, Tel: (412) 644-2817, Email: Ryan.Russell@trade.gov

Dated: January 22, 2015.
Edward A. O'Malley,
Director, Office of Energy and Environmental Industries.

[FR Doc. 2015-02042 Filed 2-2-15; 8:45 am]

BILLING CODE 3510-DR-P